DEPARTMENT OF COMMERCE

International Trade Administration

[A-533-887]

Carbon and Alloy Steel Threaded Rod From India: Final Results of Antidumping Duty Administrative Review, and Partial Rescission; 2022-2023

AGENCY: Enforcement and Compliance, International Trade Administration, Department of Commerce.

SUMMARY: The U.S. Department of Commerce (Commerce) determines that carbon and alloy steel threaded rod (steel threaded rod) from India was sold in the United States at below normal value during the period of review (POR), April 1, 2022, through March 31, 2023. Further, we are rescinding this review with respect to 83 companies.

DATES: Applicable October 15, 2024.

FOR FURTHER INFORMATION CONTACT: Kabir Archuletta or Samuel Frost, AD/CVD Operations, Office V, Enforcement and Compliance, International Trade Administration, U.S. Department of Commerce, 1401 Constitution Avenue NW, Washington, DC 20230; telephone: (202) 482-2593 or (202) 482-8180, respectively.

SUPPLEMENTARY INFORMATION:

Background

This administrative review covers 29 companies.¹ Commerce selected two respondents for individual examination, Mangal Steel Enterprises Limited (Mangal) and Shree Luxmi Fasteners/The Emerging Impex (SLF/TEI).²

¹ We initiated this administrative review with respect to 112 companies. See Initiation of Antidumping and Countervailing Duty Administrative Reviews, 88 FR 38021 (June 12, 2023). However, we are rescinding this review for 83 companies that did not have reviewable entries of subject merchandise during the POR. See “Rescission of Administrative Review, in Part” section below.

² See Memorandum, “Respondent Selection,” dated June 28, 2023. Commerce preliminarily determined to treat Shree Luxmi Fasteners (SLF) and its affiliate The Emerging Impex (TEI) as a single entity for purposes of this review. Because no parties commented on this preliminary decision, for these final results Commerce continues to treat these companies as a single entity. See Carbon and Alloy Steel Threaded Rod from India: Preliminary Results and Preliminary Rescission of Antidumping Duty Administrative Review, in Part, 2022-2023, 89 FR 37174 (May 6, 2024) (Preliminary Results), and accompanying Preliminary Decision Memorandum (PDM).

On May 6, 2024, Commerce published the Preliminary Results of this administrative review and invited interested parties to comment on the Preliminary Results.³ On June 5, 2024, we received a timely-filed case brief from Sigma Piping Products (2019), LLC (Sigma), a U.S. importer of subject merchandise,⁴ and on June 10, 2024, we received a timely-filed rebuttal brief from Vulcan Threaded Products, Inc. (the petitioner).⁵

³ Id.

⁴ See Sigma's Letter, “Sigma Comments on Preliminary Results,” dated June 5, 2024 (Sigma's Case Brief).

⁵ See Petitioner's Letter, “Rebuttal Brief,” dated June 10, 2024 (Petitioner's Rebuttal Brief).

On July 22, 2024, Commerce tolled certain deadlines in this administrative proceeding by seven days.⁶ Thereafter, Commerce partially extended the deadline for issuing the final results until October 8, 2024.⁷ For a complete description of the events that followed the Preliminary Results, see the Issues and Decision Memorandum.⁸

⁶ See Memorandum, “Tolling of Deadlines for Antidumping and Countervailing Duty Proceedings,” dated July 22, 2024.

⁷ See Memoranda, “Extension of Deadline for Final Results of Antidumping Duty Administrative Review; 2022-23,” dated August 14, 2024; and “Extension of Deadline for Final Results of Antidumping Duty Administrative Review; 2022-2023,” dated October 1, 2024.

⁸ See Memorandum, “Issues and Decision Memorandum for the Final Results of the Antidumping Duty Administrative Review of Carbon and Alloy Steel Threaded Rod from India; 2022-2023,” dated concurrently with, and hereby adopted by, this notice (Issues and Decision Memorandum).

Commerce conducted this administrative review in accordance with section 751 of the Tariff Act of 1930, as amended (the Act).

Scope of the Order ⁹

⁹ See Carbon and Alloy Steel Threaded Rod from India: Amended Final Determination of Sales at Less Than Fair Value and Antidumping Duty Order, 85 FR 19925 (April 9, 2020) (Order).

The merchandise covered by the scope of this Order is carbon and alloy steel threaded rod from India. A complete description of the scope of the Order is provided in the Issues and Decision Memorandum.¹⁰

¹⁰ See Issues and Decision Memorandum at “Scope of the Order.”

Rescission of Administrative Review, in Part

Pursuant to 19 CFR 351.213(d)(3), when there are no reviewable entries of subject merchandise during the POR subject to the antidumping duty order for which liquidation is suspended, Commerce may rescind an administrative review, in whole or only with respect to a particular exporter or producer.¹¹ At the end of the administrative review, any suspended entries are liquidated at the assessment rate computed for the review period.¹² Therefore, for an administrative review to be conducted, there must be a reviewable, suspended entry to be liquidated at the newly calculated assessment rate. In the Preliminary Results, Commerce preliminarily rescinded this review with respect to 83 companies because those companies had no reviewable, suspended entries of subject merchandise and invited parties to comment.¹³ We received no comments on our preliminary rescission of the review with respect to these companies. Accordingly, in the absence of suspended entries of subject merchandise during the POR for these 83 companies for which this review was initiated, we are hereby rescinding this administrative review, in part, with respect to these companies, in accordance with 19 CFR 351.213(d)(3).¹⁴

¹¹ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

¹² See 19 CFR 351.212(b)(1).

¹³ See Preliminary Results, 89 FR at 37175-76.

¹⁴ Appendix III identifies all companies for which we have rescinded this review.

Analysis of Comments Received

All issues raised in the case and rebuttal briefs are addressed in the Issues and Decision Memorandum. A list of the issues that parties raised and to which we responded in the Issues and Decision Memorandum is attached to this notice at Appendix I. The Issues and Decision Memorandum is a public document and is made available to the public via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record, we made certain changes to the margin calculations for these final results. For a discussion of these changes, see the Issues and Decision Memorandum.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review.

Under section 735(c)(5)(A) of the Act, the all-others rate is normally “an amount equal to the weighted average of the estimated weighted-average dumping margins established for exporters and producers individually investigated, excluding any zero and de minimis margins, and any margins determined entirely {on the basis of facts available}.”

In this review, we have calculated weighted-average dumping margins of zero percent for Mangal and 10.94 percent for SLF/TEI. Therefore, in accordance with section 735(c)(5)(A) of the Act, we are applying SLF/TEI's weighted average dumping margin of 10.94 percent to the non-examined companies, because this is the only rate that is not zero, de minimis, or based entirely on facts available.

Final Results of the Review

Commerce determines that the following estimated weighted-average dumping margins exist during the period April 1, 2022, through March 31, 2023:

Exporter/producer | Weighted- average dumping margin (percent)
Mangal Steel Enterprises Limited | 0.00
Shree Luxmi Fasteners/The Emerging Impex | 10.94
Companies Not Selected for Individual Review ¹⁵ | 10.94

Disclosure

Commerce intends to disclose the calculations performed in connection with these final results to interested parties within five days of any public announcement or, if there is no public announcement, within five days of the date publication of the notice of final results in the Federal Register.¹⁶

¹⁵ See Appendix II for a full list of these companies.

¹⁶ See 19 CFR 351.224(b).

Assessment Rates

Pursuant to section 751(a)(2)(C) of the Act and 19 CFR 351.212(b)(1), Commerce shall determine, and U.S. Customs and Border Protection (CBP) shall assess, antidumping duties on all appropriate entries covered by this review. Because the weighted-average dumping margin for Mangal has been determined to be zero percent, we intend to instruct CBP to liquidate Mangal's entries without regard to antidumping duties, in accordance with 19 CFR 351.106(c)(2).

SLF/TEI's weighted average dumping margin is not zero or de minimis (i.e., less than 0.5 percent). Therefore, we calculated importer-specific assessment rates based on the ratio of the total dumping calculated for the examined sales to the total entered value of the sales. Where an importer-specific assessment rate for SLF/TEI is either zero or de minimis, we will instruct CBP to liquidate the appropriate entries without regard to antidumping duties.

In accordance with Commerce's “automatic assessment” practice, for entries of subject merchandise during the POR produced by Mangal or SLF/TEI for which these companies did not know that the merchandise was destined for the United States, we will instruct CBP to liquidate those entries at the all-others rate established in the original less-than-fair-value (LTFV) investigation of 0.00 percent,¹⁷ if there is no rate for the intermediate company(ies) involved in the transaction.¹⁸ For the companies that were not selected for individual examination, we will instruct CBP to liquidate entries at the rate established in these final results of review.

¹⁷ See Order, 85 FR at 19926.

¹⁸ See Antidumping and Countervailing Duty Proceedings: Assessment of Antidumping Duties, 68 FR 23954 (May 6, 2003).

For the companies for which this review is rescinded with these final results (see Appendix III), we will instruct CBP to assess antidumping duties on any suspended at a rate equal to the cash deposit of estimated antidumping duties required at the time of entry, or withdrawal from warehouse, for consumption, during the POR, in accordance with 19 CFR 351.212(c)(1)(i).

We intend to issue instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of these final results of review in the Federal Register, as provided by section 751(a)(2)(C) of the Act: (1) the cash deposit rate for the companies listed in these final results will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review, a prior review, or the original investigation but the producer is, then the cash deposit rate will be the rate established for the most recently completed segment of this proceeding for the producer of the merchandise; and (4) the cash deposit rate for all other producers or exporters will continue to be 0.00 percent, the all-others rate established in the LTFV investigation, adjusted for the export-subsidy rate in the companion countervailing duty investigation.¹⁹ These cash deposit requirements, when imposed, shall remain in effect until further notice.

¹⁹ See Order, 85 FR at 19926.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 351.221(b)(5).

Dated: October 8, 2024.
Ryan Majerus,
Deputy Assistant Secretary for Policy and Negotiations, performing the non-exclusive functions and duties of the Assistant Secretary for Enforcement and Compliance.

Appendix I—List of Topics Discussed in the Issues and Decision Memorandum

I. Summary

II. Background

III. Scope of the Order

IV. Changes Since the Preliminary Results

V. Discussion of the Issues

Comment 1: Whether Commerce Should Redetermine the Cash Deposit Rate for Kanika Exports (Kanika)

Comment 2: Whether Commerce Should Use a Different Methodology To Determine Kanika's Dumping Margin

VI. Recommendation

Appendix II—List of Companies Not Individually Examined

1. Aadi Shree Fastener Industries

2. Babu Exports

3. Bhansali Inc.

4. Chirag International

5. Everest Industrial Corporation

6. Fence Fixings

7. Fine Thread Form Industries

8. Ganpati Fastners Pvt., Ltd.

9. GDPA Fasteners

10. Goodgood Manufacturers

11. Idea Fasteners Pvt., Ltd.

12. Kanika Exp.

13. Kapson India

14. Kapurthala Industrial Corporation

15. Kova Fasteners Pvt., Ltd.

16. Maharaja International

17. Maya Enterprises

18. Nishant Steel Industries

19. Nuovo Fastenings Pvt., Ltd.

20. R A Exp

21. R K Fasteners (India)

22. Rods & Fixing Fasteners

23. S K Overseas

24. Singhania International Ltd.

25. The Technocrats Co.

26. Viraj Profiles Ltd.

27. Yogendra International

Appendix III—List of Companies for Which We Are Rescinding the Administrative Review

1. A H Enterprises

2. Aanjaney Micro Engy Pvt., Ltd.

3. Accurate Steel Forgings (I) Ltd.

4. Alps Industries Ltd.

5. Apex Thermocon Pvt., Ltd.

6. Ash Hammer Union

7. Astrotech Steels Pvt., Ltd.

8. Atlantic Container Line Pvt., Ltd.

9. Ats Exp. 07

10. Atz Shipping Trade & Transport Pvt.

11. BA Metal Processing

12. Boston Exp. & Engineering Co.

13. C.H.Robinson International (India)

14. C.P.World Lines Pvt., Ltd.

15. Century Distribution Systems Inc.

16. Charu Enterprises

17. Daksh Fasteners

18. Dedicated Imp. & Exp. Co.

19. Dhiraj Alloy & Stainless Steel

20. Dsv Air and Sea Pvt., Ltd.

21. Eastman Industries Ltd.

22. Eos Precision

23. ESL Steel Ltd

24. Everest Exp.

25. Farmparts Company

26. Galorekart Marketplace Pvt., Ltd.

27. Ganga Acrowools Ltd.

28. Gateway Engineering Solution

29. Gee Pee Overseas

30. Geodis India Pvt., Ltd. (Indel)

31. Jindal Steel And Power Ltd.

32. JSW Steel Ltd.

33. Kanchan Trading Co.

34. Kanhaiya Lal Tandoor (P) Ltd.

35. Karna International

36. Kei Industries Ltd.

37. King Exports

38. Linit Exp. Pvt., Ltd.

39. Mahajan Brothers

40. Meenakshi India, Ltd.

41. Metalink

42. MKA Engineers And Exporters Pvt., Ltd.

43. National Cutting Tools

44. NJ Sourcing

45. Noahs Ark International Exp.

46. Oia Global India Pvt., Ltd.

47. Otsusa India Pvt., Ltd.

48. Paloma Turning Co. Pvt., Ltd.

49. Patton International Ltd.

50. Perfect Tools & Forgings

51. Permali Wallace Pvt., Ltd.

52. Polycab India Ltd.

53. Pommada Hindustan Pvt., Ltd.

54. Poona Forge Pvt., Ltd.

55. Raajratna Ventures Ltd.

56. Raashika Industries Pvt., Ltd.

57. Rajpan Group

58. Rambal Ltd.

59. Randack Fasteners India Pvt., Ltd.

60. Ratnveer Metals Ltd.

61. Rimjhim Ispat Ltd.

62. S.M Forgings & Engineering

63. Sandip Brass Industries

64. Sandiya Exp. Pvt., Ltd.

65. Sansera Engineering Pvt., Ltd.

66. Silverline Metal Engineering Pvt. Lt

67. Sri Satya Sai Enterprises

68. Steampulse Global Llp

69. Steel Authority Of India Ltd.

70. Suchi Fasteners Pvt., Ltd.

71. Supercon Metals Pvt., Ltd.

72. Tekstar Pvt., Ltd.

73. Tijiya Exp. Pvt., Ltd.

74. Tijiya Steel Pvt., Ltd.

75. Tong Heer Fasteners

76. Trans Tool Pvt., Ltd.

77. Universal Engineering and Fabricat

78. V.J Industries Pvt., Ltd.

79. Vidushi Wires Pvt., Ltd.

80. Vrl Automation

81. VV Marine Pvt., Ltd.

82. Zenith Precision Pvt., Ltd.

83. Zenith Steel Pipes And Industries L

[FR Doc. 2024-23774 Filed 10-11-24; 8:45 am]

BILLING CODE 3510-DS-P